DEPARTMENT OF COMMERCE

International Trade Administration

[A-560-810, A-580-843]

Notice of Postponement of Preliminary Antidumping Duty Determinations: Certain Expandable Polystyrene Resins From Indonesia and the Republic of Korea

AGENCY: Import Administration, International Trade Administration, Department of Commerce.

EFFECTIVE DATE: April 13, 2000.

FOR FURTHER INFORMATION CONTACT: Valerie Ellis or David Layton, Office 5, Group II, Import Administration, International Trade Administration, U.S. Department of Commerce, 14th Street and Constitution Avenue, NW, Washington, DC 20230; telephone (202) 482-2336, or (202) 482-0371, respectively.

Postponement of Preliminary Determination

The Department of Commerce (the Department) is postponing the preliminary determinations in the antidumping duty investigations of certain expandable polystyrene resins from Indonesia and the Republic of Korea. The deadline for issuing the preliminary determinations in these investigations is now June 20, 2000.

On December 13, 1999, the Department initiated antidumping investigations of certain expandable polystyrene resins from Indonesia and the Republic of Korea. See Initiation of Antidumping Duty Investigations: Certain Expandable Polystyrene Resins from Indonesia and the Republic of Korea, 64 FR 71112 (December 20, 1999). The notice stated that the Department would issue its preliminary determinations no later than 140 days after the date of initiation (i.e., May 1, 2000).

Pursuant to 19 CFR 351.205(e), on March 29, 2000, the petitioners filed a request that the Department postpone the preliminary determinations in these investigations. The petitioners' request for postponement was timely, and the Department finds no compelling reason to deny the request. Therefore, in accordance with section 733(c)(1) of the Tariff Act of 1930, as amended (the Act), the Department is postponing the deadline for issuing these preliminary determinations until June 20, 2000.

This extension is in accordance with section 733(c) of the Act and 19 CFR 351.205(b)(2).

Dated: April 5, 2000.
Joseph A. Spetrini,
Acting Assistant Secretary for Import Administration.

[FR Doc. 00-9241 Filed 4-12-00; 8:45 am]

BILLING CODE 3510-DS-P